ENVIRONMENTAL PROTECTION AGENCY

[FRL-9973-34—Region 2]

Proposed CERCLA Cost Recovery Settlement for the Facet Enterprises, Inc. Superfund Site, Elmira Heights, Chemung County, New York

AGENCY: Environmental Protection Agency.

ACTION: Notice; request for public comment.

SUMMARY: In accordance with the Comprehensive Environmental Response, Compensation, and Liability Act of 1980, as amended (“CERCLA”), notice is hereby given by the U.S. Environmental Protection Agency (“EPA”), Region 2, of a proposed cost recovery settlement agreement pursuant to CERCLA, with Motor Components, LLC (“Motor Components”) and Honeywell International, Inc. (“Honeywell”) (collectively, “Settling Parties”) for the Facet Enterprises, Inc. Superfund Site (“Site”), located in Elmira Heights, Chemung County, New York.

DATES: Comments must be submitted on or before March 5, 2018.

ADDRESSES: The proposed settlement is available for public inspection at EPA Region 2 offices at 290 Broadway, New York, New York 10007-1866. Comments should reference the Facet Enterprises, Inc. Superfund Site, Elmira Heights, Chemung County, New York, Index No. II-CERCLA-02-2017-2037. To request a copy of the proposed settlement agreement, please contact the EPA employee identified below.

FOR FURTHER INFORMATION CONTACT: Lauren Charney, Attorney, Office of Regional Counsel, New York/Caribbean Superfund Branch, U.S. Environmental Protection Agency, 290 Broadway, 17th Floor, New York, NY 10007-1866. email: charney.lauren@epa.gov. Telephone: 212-637-3181.

SUPPLEMENTARY INFORMATION: The Settling Parties agree to reimburse EPA for past response costs paid at or in connection with the Site as set forth: (a) Within 30 days of the effective date, Honeywell shall pay $550,000, plus interest accrued, and (b) Motor Components shall pay $1,300,000, plus accrued interest in up to four installments over a period not to exceed three years from the effective date.

The settlement includes a covenant by EPA not to sue or to take administrative action against the Settling Party/Parties pursuant to Section 107(a) of CERCLA, 42 U.S.C. 9607(a), with regard to the response costs related to the work at the Site enumerated in the settlement agreement. For thirty (30) days following the date of publication of this notice, EPA will receive written comments relating to the settlement. EPA will consider all comments received and may modify or withdraw its consent to the settlement if comments received disclose facts or considerations that indicate that the proposed settlement is inappropriate, improper, or inadequate. EPA's response to any comments received will be available for public inspection at EPA Region 2, 290 Broadway, New York, New York 10007-1866.

Dated: January 3, 2018.
Walter Mugdan,
Director, Emergency and Remedial Response Division, U.S. Environmental Protection Agency, Region 2.

[FR Doc. 2018-02046 Filed 1-31-18; 8:45 am]

BILLING CODE 6560-50-P